DEPARTMENT OF COMMERCE

National Oceanic and Atmospheric Administration

50 CFR Part 660

[Docket No. 020430101-2101-01; I.D. 082802B]

Fisheries Off West Coast States and in the Western Pacific; West Coast Salmon Fisheries; Inseason Action No. 9—Closure and Reopening of the Recreational Fishery From Cape Falcon to Humbug Mountain, OR

AGENCY: National Marine Fisheries Service (NMFS), National Oceanic and Atmospheric Administration (NOAA), Commerce.

ACTION: Closure; request for comments.

SUMMARY: NMFS announces that the recreational selective fishery for marked hatchery coho salmon in the area from Cape Falcon, OR to Humbug Mountain, OR was closed at midnight on August 1, 2002. The Northwest Regional Administrator, NMFS (Regional Administrator), determined that the quota of 22,500 marked hatchery coho had been reached. The recreational fishery for all salmon except coho then reopened on August 2, 2002, for the area from Cape Falcon, OR to Humbug Mountain, OR as scheduled in the 2002 annual management measures. This action was necessary to conform to the 2002 management goals.

DATES: Closure of the selective fishery for marked hatchery coho in the area from Cape Falcon, OR to Humbug Mountain, OR effective 2359 hours local time (l.t.), August 1, 2002; Reopening the recreational fishery for all salmon except coho in the area from Cape Falcon, OR to Humbug Mountain, OR effective 0001 hours l.t., August 2, 2002. Comments will be accepted through September 26, 2002.

ADDRESSES: Comments on these actions must be mailed or faxed to D. Robert Lohn, Regional Administrator, Northwest Region, NMFS, NOAA, 7600 Sand Point Way NE., Bldg. 1, Seattle, WA 98115-0070, facsimile 206-526-6376; or

Rod McInnis, Acting Regional Administrator, Southwest Region, NMFS, NOAA, 501 W. Ocean Blvd., Suite 4200, Long Beach, CA 90802-4132, facsimile 562-980-4018.

Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: The Regional Administrator closed the recreational selective fishery for marked hatchery coho in the area from Cape Falcon, OR to Humbug Mountain, OR effective at midnight on Thursday, August 1, 2002. Information provided on July 29, 2002, estimated that the quota of 22,500-marked coho salmon would be reached by August 1, 2002. Automatic season closures based on quotas are authorized by regulations at 50 CFR 660.409(a)(1). The recreational fishery for all salmon except coho reopened on August 2, 2002, as scheduled in the 2002 annual management measures.

In the 2002 annual management measures for ocean salmon fisheries (67 FR 30616, May 7, 2002), NMFS announced that the recreational selective fishery for marked hatchery coho in the area from Cape Falcon, OR to Humbug Mountain, OR would open on July 7, 2002, through the earlier of August 4, 2002, or the attainment of a 22,500-marked coho quota, and the all salmon except coho season would then reopen the earlier of August 5, 2002, or the attainment of the marked coho quota.

On July 29, 2002, the Regional Administrator consulted with representatives of the Pacific Fishery Management Council and Oregon Department of Fish and Wildlife (ODFW) by conference call. Information related to catch to date, the coho catch rate, and effort data indicated that it was likely that the quota would be reached by August 1, 2002. As a result, the State of Oregon recommended, and the Regional Administrator concurred, that the recreational selective fishery for marked hatchery coho in the area from Cape Falcon, OR to Humbug Mountain, OR close effective at midnight on Thursday, August 1, 2002, with the all salmon except coho fishery reopening on August 2, 2002. All other regulations that apply to this fishery remain in effect as announced in the 2002 annual management measures and subsequent inseason actions.

The Regional Administrator determined that the best available information indicated that the catch and effort data, and projections, supported the above inseason action recommended by the ODFW. The states manage the fisheries in state waters adjacent to the areas of the U.S. exclusive economic zone in accordance with this Federal action. As provided by the inseason notice procedures of 50 CFR 660.411, actual notice to fishers of the above described action was given prior to the effective date by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B), or delaying the effectiveness of this rule for 30 days under 5 U.S.C. 553(d)(3), because such notification and delay would be impracticable and contrary to the public interest. As previously noted, actual notice of this action was provided to fishers through telephone hotline and radio notification. This action complies with the requirements of the annual management measures for ocean salmon fisheries (67 FR 30616, May 7, 2002) and the West Coast Salmon Plan. Prior notice and opportunity for public comment is impracticable because NMFS and the state agencies have insufficient time to allow for prior notice and the opportunity for public comment between the time the fishery catch and effort data are collected to determine the extent of the fisheries, and the time the fishery closure must be implemented to avoid exceeding the quota. Moreover, such prior notice and the opportunity for public comment is contrary to the public interest because not closing the fishery upon attainment of the quota would allow the quota to be exceeded, resulting in fewer spawning fish and reduced yield of the stocks. The 30-day delay in effectiveness required under U.S.C. 553(d)(3) is also hereby waived due to the immediate need to stop a fishery upon attainment of a quota.

This action is authorized by 50 CFR 660.409 and 660.411 and is exempt from review under Executive Order 12866.

Authority: 16 U.S.C. 1801 et seq.

Dated: September 5, 2002.
Virginia M. Fay,
Acting Director, Office of Sustainable Fisheries, National Marine Fisheries Service.

[FR Doc. 02-23096 Filed 9-10-02; 8:45 am]

BILLING CODE 3510-22-S